DEPARTMENT OF HOMELAND SECURITY

Coast Guard

[Docket No. USCG-2013-0799]

Cooperative Research and Development Agreement: Next Generation Arctic Navigational Safety Information System

AGENCY: Coast Guard, DHS.

ACTION: Notice of intent; request for public comments.

SUMMARY: The Coast Guard is announcing its intent to enter into a Cooperative Research and Development Agreement (CRADA) with Marine Exchange of Alaska (MXAK) to develop, demonstrate, and evaluate, in an operational setting, at least one promising technology approach to the “Next Generation Arctic Maritime Navigational Safety Information System,” which provides important, time-critical, information to mariners, in order that they may better assess and manage their voyage risks, as they transit the remote and hostile waters of the U.S. Arctic Exclusive Economic Zone (EEZ). While the Coast Guard is currently considering partnering with MXAK, it is soliciting public comment on the possible nature of and participation of other parties in the proposed CRADA. In addition, the Coast Guard also invites other potential non-Federal participants, who have the interest and capability to bring similar contributions to this type of research, to consider submitting proposals for consideration in similar CRADAs.

DATES: Comments and related material on the proposed CRADA must either be submitted to the online docket via http://www.regulations.gov on or before September 26, 2013, or reach the Docket Management Facility by that date.

Synopses of proposals regarding future, similar CRADAs must reach the Docket Management Facility on or before February 24, 2014.

ADDRESSES: You may submit comments on this notice identified by docket number USCG-2013-0799 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, contact Mr. James E. Fletcher, Project Official, U.S. Coast Guard Research and Development Center, 1 Chelsea Street, New London, CT 06320, telephone 860-271-2659, email James.E.Fletcher@uscg.mil. If you have questions on viewing or submitting material to the docket, call Ms. Barbara Hairston, Program Manager, Docket Operations, telephone 202-366-9826.

SUPPLEMENTARY INFORMATION:

Public Participation and Request for Comments

We encourage you to submit comments and related material on this notice. All comments received will be posted, without change, to http://www.regulations.gov and will include any personal information you have provided.

Do not submit detailed proposals for future CRADAs to the Docket Management Facility. Potential non-Federal CRADA participants should submit these documents directly to James E. Fletcher, U.S. Coast Guard Research and Development Center, 1 Chelsea Street, New London, CT 06320, email James.E.Fletcher@uscg.mil.

Submitting Comments

If you submit a comment, please include the docket number for this notice (USCG-2013-0799), and provide a reason for each suggestion or recommendation. You may submit your comments and material online via http://www.regulations.gov, or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov and locate this notice by using “USCG-2013-0799” as your search term. Click the “Comment Now” box opposite this notice and follow the instructions to submit your comment. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing Comments and Related Material

To view the comments and related material, go to http://www.regulations.gov and locate this notice by using “USCG-2013-0799” as your search term. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Cooperative Research and Development Agreements

Cooperative Research and Development Agreements are authorized by the Federal Technology Transfer Act of 1986 (Pub. L. 99-502, codified at 15 U.S.C. 3710(a)). A CRADA promotes the transfer of technology to the private sector for commercial use as well as specified research or development efforts that are consistent with the mission of the Federal parties to the CRADA. The Federal party or parties agree with one or more non-Federal parties to share research resources, but the Federal party does not contribute funding. The Department of Homeland Security (DHS), as an executive agency under 5 U.S.C. 105, is a Federal agency for purposes of 15 U.S.C. 3710(a) and may enter into a CRADA. The Secretary of DHS delegated authority to the Commandant of the Coast Guard to carry out the functions vested in the Secretary by section 2 of the Federal Technology Transfer Act of 1986, which authorizes agencies to permit their laboratories to enter into CRADAs (see DHS Delegation No. 0160.1, para. 2.B(34)). The Commandant has delegated authority in this regard to the Coast Guard's Research and Development Center (R&DC).

CRADAs are not procurement contracts. Care is taken to ensure that CRADAs are not used to circumvent the contracting process. CRADAs have a specific purpose and should not be confused with other types of agreements such as procurement contracts, grants, and cooperative agreements.

Goal of Proposed CRADA

Under the proposed CRADA, the R&DC would collaborate with one or more non-Federal participants. Together, the R&DC and the non-Federal participants would define, develop, demonstrate, and evaluate, in an operational setting, at least one promising technology approach to the “Next Generation Arctic Maritime Navigational Safety Information System,” which provides important, time-critical, information to mariners in order that they may better assess and manage their voyage risks as they transit the remote and hostile waters of the U.S. Arctic Exclusive Economic Zone.

Increased maritime activity in the Arctic has raised the potential for maritime accidents and serious environmental harm to that region's fragile environment, warranting the need to implement enhanced maritime safety measures. Presently, the environmental and safety information needed by mariners to identify, assess and mitigate the risks of operating in the Arctic is not available due to a lack of infrastructure that exists in other maritime regions. The proposed CRADA strives to promote a public-private analysis and eventual solution to this problem.

The R&DC, with the non-Federal participants, will mutually define the prototype system that will be developed, installed, utilized, and evaluated under this CRADA. It is anticipated that this system will be a to-be-determined combination of (a) AIS-Transmit, (b) SATCOM, (c) DSC VHF, and (d) other components/sub-systems such as the proposed 500 kHz, 47,400 bits/sec, NAVTEX Replacement being considered by the International Telecommunications Union and the IMO's International NAVTEX Coordinating Panel. Arctic mariner navigational information requirements will drive the design of this prototype system. Care will be taken to (a) minimize and define any additional vessel equipment carriage requirements and (b) define the specific content and format of the information presented to the mariner.

Party Contributions

We anticipate that the Coast Guard's contributions under the proposed CRADA will include the following:

(1) Review and comment on non-Federal participant's preliminary functional design of the prototype system. After discussion and agreement between the CRADA collaborators, the R&DC will develop an Interim CRADA Report, which documents the mutually-agreed-upon design.

(2) Support the non-Federal participant in the development of the AIS-Transmit, SATCOM, and DSC VHF components of the prototype system. It is anticipated that this support will include technology expertise and authorization to transmit on specific frequencies for the DSC VHF components. The R&DC will also provide the proposed 500 kHz, NAVTEX Replacement component, if it is mutually agreed by the collaborators to be part of the prototype system.

(3) Support the non-Federal participant with the installation, testing, operation, and maintenance of the prototype system at specific, jointly-agreed-upon, field locations. The RD&C will develop the test plan and provide any test and network monitoring equipment/capabilities needed, to ensure that the prototype system is “Ready for Tech Demo Utilization” and continues to meet the jointly-agreed-upon performance criteria through the duration of the Tech Demo.

(4) Monitor the performance of the prototype system during the Tech Demo. This monitoring will be accomplished in accordance with the above mentioned test plan. The R&DC will also develop an appropriate CRADA Report, which documents the prototype system, its performance, and its utilization by mariners during the Tech Demo period.

We anticipate that the non-Federal participant's contributions under the proposed CRADA will include the following:

(1) Develop a preliminary functional design of the prototype system to be developed and evaluated under this CRADA. The non-Federal participant will collaborate with the RD&C on the final prototype system design and the Interim Report which the RD&C will develop to document said design.

(2) Provide the AIS-Transmit, SATCOM, and DSC VHF components of the prototype system. The non-Federal participant will support the R&DC with the development of the proposed 500 kHz, NAVTEX Replacement, if it is mutually-agreed-upon to be part of the prototype system. It is anticipated that this support will include technical guidance/assistance with any integration with other components of the prototype system, particularly at the planned field installation sites.

(3) Install, test, operate, and maintain the prototype system at specific, mutually-agreed-upon, field locations. The non-Federal participant will provide site space, power, security, and back-haul communications capability for all system components, including the 500 kHz NAVTEX Replacement, if it is mutually-agreed-upon to be part of the prototype system. The non-Federal participant will support the R&DC in test plans/system/components and conduct of the test plan to ensure that the prototype system is “Ready for Tech Demo Utilization” and continues to meet the mutually-agreed-upon performance criteria through the duration of the Tech Demo.

(4) Support the R&DC in its monitoring of the performance of the prototype system during the Tech Demo. The non-Federal participant will also support the R&DC in the development of an appropriate CRADA report, which documents the prototype system, its performance, and its utilization by mariners during the Tech Demo period.

Selection Criteria

The Coast Guard reserves the right to select for CRADA participants all, some, or none of the proposals in response to this notice. The Coast Guard will provide no funding for reimbursement of proposal development costs. Proposals (or any other material) submitted in response to this notice will not be returned. Proposals submitted are expected to be unclassified and have no more than four single-sided pages (excluding cover page and resumes). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering MXAK for participation in this CRADA. This consideration is based on the fact that MXAK has demonstrated its expertise in providing mariners with important information for the voyage planning and safe navigation of their vessels, and has an established infrastructure within the Arctic for providing such information. However, we do not wish to exclude other viable participants from this or future similar CRADAs.

This is a technology transfer/development effort. Presently, the Coast Guard has no plan to procure an Arctic Navigation Safety Information System (ANSIS) capability. Since the goal of this CRADA is to identify and investigate the advantages, disadvantages, required technology enhancements, performance, costs, and other issues associated with the Next Generation ANSIS, non-Federal CRADA participants will not be excluded from any future Coast Guard procurements based solely on their participation in this CRADA.

Special consideration will be given to small business firms/consortia, and preference will be given to business units located in the U.S.

Authority: This notice is issued under the authority of 15 U.S.C. 3710(a), 5 U.S.C. 552(a), 33 CFR 1.05-1 and DHS Delegation No. 0160.1.

Dated: August 14, 2013.
Alan N. Arsenault,
USCG, Commanding Officer, U.S. Coast Guard Research and Development Center.

[FR Doc. 2013-20789 Filed 8-26-13; 8:45 am]

BILLING CODE 9110-04-P